TENNESSEE VALLEY AUTHORITY

Sunshine Act Meeting

AGENCY HOLDING THE MEETING: Tennessee Valley Authority (Meeting No. 1534)

TIME AND DATE: 9 a.m. (CDT), September 19, 2001

PLACE: The Renaissance Center, 855 Highway 46 South, Dickson, Tennessee

STATUS: Open

Agenda

Approval of minutes of meeting held on August 22, 2001.

New Business

A—Budget and Financing

A1. Approval of short-term borrowing from the United States Treasury.

A2. Rate review and approval of power system operating and capital budgets for Fiscal Year 2002.

B—Purchase Awards

B1. Supplement to Contract No. 583 with Immixtechnology, Inc., for software, maintenance, and professional services.

B2. Contract with Dell Computer Corporation to provide the latest version of Microsoft operating system and office product software.

C—Energy

C1. Supplement to Contract No. 99MJ-232187 with G-UB-MK Constructors for modification and supplemental maintenance work at TVA's eastern region fossil facilities.

C2. Contract with Reinforced Plastic Systems, Inc., to design, fabricate, deliver, and install scrubber absorber recycle piping at Cumberland Fossil Plant.

C3. Supplement to contract with Valmont Industries, Inc., for transmission steel poles and accessories for Transmission/Power Supply Group.

E—Real Property Transactions

E1. Grant of a permanent easement for an electrical transmission line to Fort Loudoun Electric Cooperative, affecting approximately 8.7 acres of land on Tellico Reservoir in Monroe County, Tennessee (Tract No. XTTELR-39T).

E2. Grant of a noncommercial, nonexclusive permanent easement to Douglas and Charlene Cross for construction and maintenance of recreational water-use facilities, affecting approximately 0.02 acre of Tellico Reservoir shoreline in Loudon County, Tennessee (Tract No. XTELR-223RE).

E3. Grant of a permanent easement for a water intake and waterline to Russellville Water and Sewer Board, affecting approximately 1.3 acres of land on Cedar Creek Reservoir in Franklin County, Alabama (Tract No. XTBCCER-IPS).

E4. Approval of updated Guntersville Reservoir Land Management Plan, Jackson and Marshall Counties, Alabama, and Marion County, Tennessee.

E5. Approval of Norris Reservoir Land Management plan, Anderson, Campbell, Claiborne, Grainger, and Union Counties, Tennessee.

F—Other

F1. Approval to file condemnation cases to acquire transmission line easements and rights-of-way affecting Tract No. SLML-1, Wilson Dam—West Point Loop Into State Line, Mississippi, Substation Transmission Line in Marion County, Alabama; and Tract No. WRCPT-77B—West Ringgold—Center Point Transmission Line in Whitfield County, Georgia.

Information Items

1. Amendment to the trust agreement between the Board of Directors of the TVA Retirement System and Fidelity Management Trust Company.

2. Termination of the delegation of authority to enter into cooperative agreements with colleges and universities in the Tennessee Valley region to fund the institution's studies and experiments for power development, environmental research, and economic development.

3. Concurrence in the issuance of up to $1.25 billion in Global Power Bonds.

4. Approval of Abbott Capital Private Equity Partners IV, L.P., as a new investment manager for the TVA Retirement System and approval of the Investment Management Agreement between the Retirement System and the new investment manager.

For more information: Please call TVA Media Relations at (865) 632-6000, Knoxville, Tennessee. Information is also available at TVA's Washington Office (202) 898-2999. People who plan to attend the meeting and have special needs should call (865) 632-6000.

Dated: September 12, 2001.
Maureen H. Dunn,
General Counsel and Secretary.

[FR Doc. 01-23319 Filed 9-14-01; 1:18 pm]

BILLING CODE 8120-08-M